DEPARTMENT OF HOMELAND SECURITY

Coast Guard

33 CFR Part 27

Transportation Security Administration

49 CFR Part 1503

RIN 1601-AB16

Civil Monetary Penalty Adjustments for Inflation

AGENCY: Department of Homeland Security (DHS).

ACTION: Final rule; technical amendment.

SUMMARY: On January 2, 2025, DHS adjusted for inflation its civil monetary penalties for 2025, in accordance with the Federal Civil Penalties Inflation Adjustment Act Improvements Act of 2015 and Executive Office of the President (EOP) Office of Management and Budget (OMB) guidance. The new penalty amounts were effective for penalties assessed after January 2, 2025, whose associated violations occurred after November 2, 2015. DHS is making a technical amendment to the Code of Federal Regulations to make several clerical revisions to the codified 2025 penalty amounts.

DATES: This technical amendment is effective on December 29, 2025.

FOR FURTHER INFORMATION CONTACT: Hillary Hunnings, Attorney-Advisor, 202-878-9252, hillary.hunnings@hq.dhs.gov.

SUPPLEMENTARY INFORMATION:

I. Statutory and Regulatory Background

On November 2, 2015, the President signed into law the Federal Civil Penalties Inflation Adjustment Act Improvements Act of 2015 (Pub. L. 114-74 section 701 (Nov. 2, 2015)) (2015 Act). The 2015 Act amended the Federal Civil Penalties Inflation Adjustment Act of 1990 (28 U.S.C. 2461 note) to further improve the effectiveness of civil monetary penalties and to maintain their deterrent effect. The 2015 Act required agencies to make annual adjustments for inflation. On January 2, 2025, DHS published a final rule making the 2025 annual inflation adjustments to its civil monetary penalties pursuant to the 2015 Act and pursuant to guidance OMB issued to agencies on December 17, 2024 (January 2025 rule). See 90 FR 1 (Jan. 2, 2025). The penalty amounts were effective for penalties assessed after January 2, 2025, whose associated violations occurred after November 2, 2015.

II. Technical Revisions

DHS is making a technical amendment to the Code of Federal Regulations. This technical amendment will make several clerical revisions to the codified 2025 penalty amounts. Specifically, DHS is making clerical revisions in the Coast Guard's and the Transportation Security Administration's codified 2025 penalty amounts.

The preamble of the January 2025 rule described inflation adjustments to all 152 Coast Guard penalties. However, for five of the 152 penalties, the Coast Guard inadvertently failed to make corresponding adjustments to the codified penalty table in 33 CFR 27.3. This rule revises Table 1 in 33 CFR 27.3 to include the correct 2025 inflation-adjusted penalty amounts for the affected penalties, consistent with the amounts set out in the preamble of the January 2025 rule. The Coast Guard is revising only the five penalties in the table below. All other penalty amounts in the table remain unchanged.

Corrected Coast Guard 2025 Penalty Amounts
[Five affected entries]
Citation | Civil monetary penalty description | New penalty amount as adjusted by this final rule
46 U.S.C. 8701(d) | Merchant Mariners Documents | $1,562
46 U.S.C. 10104(a)(2) | Requirement to Report Sexual Assault and Harassment; Mandatory Reporting by Responsible Entity of a Vessel | 52,962
46 U.S.C. 10104(d)(2) | Requirement to Report Sexual Assault and Harassment; Company After Action Summary, violation of 10104(d)(1) | 26,481
46 U.S.C. 10104(d)(2) | Requirement to Report Sexual Assault and Harassment; Company After Action Summary, Daily Noncompliance Penalty | 529
46 U.S.C. 10104(d)(2) | Requirement to Report Sexual Assault and Harassment; Company After Action Summary, Civil Penalty Maximum | 52,962

In addition, TSA determined that a statutory revision enacted in May 2024 required an update to the January 2025 rule. The FAA Reauthorization Act of 2024 (Pub. L. 118-63, 138 Stat. 1025, 1102 (May 16, 2024)) amended 49 U.S.C. 46301 to raise the statutory maximum civil monetary penalty amounts that TSA may assess for security violations. This rule revises the relevant penalty provisions to incorporate the 2024 statutory amendment to 49 U.S.C. 46301 and the 2025 adjustment for inflation. This rule ensures that the regulatory text accurately reflects TSA's current statutory penalty authority and accordingly the civil monetary penalty amounts as adjusted for inflation.

Corrected TSA 2025 Penalty Amounts
[Two affected entries]
Citation | Civil monetary penalty description | New penalty amount as adjusted by this final rule
49 U.S.C. 46301(a)(1), (4), (5); 49 U.S.C. 46301(d)(8); 49 CFR 1503.401(c)(1)-(2) | Violation of 49 U.S.C. ch. 449 (except secs. 44902, 44903(d), 44907(a)-(d)(1)(A), 44907(d)(1)(C)-(f), 44908, and 44909), or 49 U.S.C. 46302 or 46303, a regulation prescribed, or order issued thereunder by an individual (except an airman serving as an airman), any person not operating an aircraft for the transportation of passengers or property for compensation, or a small business concern | $17,062 (up to a total of 100,000 for individuals or small businesses, $1,200,000 for others).
49 U.S.C. 46301(a)(1), (4), (5), (6); 49 U.S.C. 46301(d)(2), (8); 49 CFR 1503.401(c)(3) | Violation of 49 U.S.C. ch. 449 (except secs. 44902, 44903(d), 44907(a)-(d)(1)(A), 44907(d)(1)(C)-(f), 44908, and 44909), or 49 U.S.C. 46302 or 46303, a regulation prescribed, or order issued thereunder by a person operating an aircraft for the transportation of passengers or property for compensation | $42,657 (up to a total of $1,200,000 per civil penalty action).

III. Administrative Procedure Act (APA)

DHS is issuing this rule without prior notice and comment because the Department has determined that good cause exists under 5 U.S.C. 553(b)(B). The APA permits an agency to dispense with notice and comment when doing so would be “impracticable, unnecessary, or contrary to the public interest.” 5 U.S.C. 553(b)(B). This amendment falls within the unnecessary prong because, for both the Coast Guard and TSA revisions, it makes only non-substantive, corrective revisions to the civil monetary penalty adjustments published in the January 2025 rule. See North Carolina Growers' Ass'n, Inc. v. United Farm Workers, 702 F.3d 755, 766-67 (4th Cir. 2012) (describing the unnecessary prong as “when amendments are minor or merely technical and of little public interest” (citation omitted)).

As discussed above, the Coast Guard inadvertently excluded several properly inflation-adjusted penalty amounts from the codified table in 33 CFR 27.3 in the 2025 annual adjustment rule, even though the correct amounts appeared in the preamble. This technical amendment corrects that clerical oversight. The revision is non-substantive, as it merely brings the regulatory text into alignment with the penalty levels listed in the preamble, which the Coast Guard intended to be operative for 2025.

Also as discussed above, TSA updated the January 2025 rule to account for a statutory amendment enacted in May 2024 that increased certain maximum penalty authorities under 49 U.S.C. 46301. Without this update, the CFR would continue to reflect the outdated maximum amounts rather than those currently authorized by Congress. Accordingly, this rule revises the regulatory text to reflect the updated statutory maximum amounts. This revision is also non-substantive and corrective, as it merely conforms the CFR to statutorily authorized penalty maximums already in effect that the Department lacks discretion to modify.

DHS therefore finds notice and comment unnecessary under 5 U.S.C. 553(b)(B). For the same reasons, DHS also finds good cause under 5 U.S.C. 553(d)(3) to make this technical amendment effective upon publication.

List of Subjects

33 CFR Part 27

Administrative practice and procedure, Penalties.

49 CFR Part 1503

Administrative practice and procedure, Investigations, Law enforcement, Penalties.

Amendments to the Regulations

Accordingly, for the reasons stated in the preamble, DHS is amending 33 CFR part 27, and 49 CFR part 1503 as follows:

Title 33—Navigation and Navigable Waters

PART 27—ADJUSTMENT OF CIVIL MONETARY PENALTIES FOR INFLATION

1. The authority citation for part 27 continues to read as follows:

Authority: Secs. 1-6, Pub. L. 101-410, 104 Stat. 890, as amended by Sec. 31001(s)(1), Pub. L. 104-134, 110 Stat. 1321 (28 U.S.C. 2461 note); Department of Homeland Security Delegation No. 0170.1, sec. 2 (106).

2. In § 27.3, revise the third sentence of the introductory text and table 1 to read as follows:

§ 27.3 Penalty adjustment table.

* * * The adjusted civil penalty amounts listed in Table 1 to this section are applicable for penalty assessments issued after December 29, 2025, with respect to violations occurring after November 2, 2015. * * *

Table 1 to § 27.3—Civil Monetary Penalty Inflation Adjustments
U.S. code citation | Civil monetary penalty description | 2025 adjusted maximum penalty amount ($)
14 U.S.C. 521(c) | Saving Life and Property | 13,295.
14 U.S.C. 521(e) | Saving Life and Property; Intentional Interference with Broadcast | 1,365.
14 U.S.C. 936(i) | Confidentiality of Medical Quality Assurance Records (first offense) | 6,677.
14 U.S.C. 936(i) | Confidentiality of Medical Quality Assurance Records (subsequent offenses) | 44,521.
19 U.S.C. 70 | Obstruction of Revenue Officers by Masters of Vessels | 9,956.
19 U.S.C. 70 | Obstruction of Revenue Officers by Masters of Vessels—Minimum Penalty | 2,323.
19 U.S.C. 1581(d) | Failure to Stop Vessel When Directed; Master, Owner, Operator or Person in Charge ¹ | 5,000.
19 U.S.C. 1581(d) | Failure to Stop Vessel When Directed; Master, Owner, Operator or Person in Charge—Minimum Penalty ¹ | 1,000.
33 U.S.C. 471 | Anchorage Ground/Harbor Regulations General | 14,435.
33 U.S.C. 474 | Anchorage Ground/Harbor Regulations St. Mary's River | 996.
33 U.S.C. 495(b) | Bridges/Failure to Comply with Regulations | 36,439.
33 U.S.C. 499(c) | Bridges/Drawbridges | 36,439.
33 U.S.C. 502(c) | Bridges/Failure to Alter Bridge Obstructing Navigation | 36,439.
33 U.S.C. 533(b) | Bridges/Maintenance and Operation | 36,439.
33 U.S.C. 1208(a) | Bridge to Bridge Communication; Master, Person in Charge or Pilot | 2,654.
33 U.S.C. 1208(b) | Bridge to Bridge Communication; Vessel | 2,654.
33 U.S.C. 1321(b)(6)(B)(i) | Oil/Hazardous Substances: Discharges (Class I per violation) | 23,647.
33 U.S.C. 1321(b)(6)(B)(i) | Oil/Hazardous Substances: Discharges (Class I total under paragraph) | 59,114.
33 U.S.C. 1321(b)(6)(B)(ii) | Oil/Hazardous Substances: Discharges (Class II per day of violation) | 23,647.
33 U.S.C. 1321(b)(6)(B)(ii) | Oil/Hazardous Substances: Discharges (Class II total under paragraph) | 295,564.
33 U.S.C. 1321(b)(7)(A) | Oil/Hazardous Substances: Discharges (per day of violation) Judicial Assessment | 59,114.
33 U.S.C. 1321(b)(7)(A) | Oil/Hazardous Substances: Discharges (per barrel of oil or unit discharged) Judicial Assessment | 2,365.
33 U.S.C. 1321(b)(7)(B) | Oil/Hazardous Substances: Failure to Carry Out Removal/Comply With Order (Judicial Assessment) | 59,114.
33 U.S.C. 1321(b)(7)(C) | Oil/Hazardous Substances: Failure to Comply with Regulation Issued Under 1321(j) (Judicial Assessment) | 59,114.
33 U.S.C. 1321(b)(7)(D) | Oil/Hazardous Substances: Discharges, Gross Negligence (per barrel of oil or unit discharged) Judicial Assessment | 7,093.
33 U.S.C. 1321(b)(7)(D) | Oil/Hazardous Substances: Discharges, Gross Negligence—Minimum Penalty (Judicial Assessment) | 236,451.
33 U.S.C. 1322(j) | Marine Sanitation Devices; Operating | 9,956.
33 U.S.C. 1322(j) | Marine Sanitation Devices; Sale or Manufacture | 26,543.
33 U.S.C. 1608(a) | International Navigation Rules; Operator | 18,610.
33 U.S.C. 1608(b) | International Navigation Rules; Vessel | 18,610.
33 U.S.C. 1908(b)(1) | Pollution from Ships; General | 93,058.
33 U.S.C. 1908(b)(2) | Pollution from Ships; False Statement | 18,610.
33 U.S.C. 2072(a) | Inland Navigation Rules; Operator | 18,610.
33 U.S.C. 2072(b) | Inland Navigation Rules; Vessel | 18,610.
33 U.S.C. 2609(a) | Shore Protection; General | 65,653.
33 U.S.C. 2609(b) | Shore Protection; Operating Without Permit | 26,262.
33 U.S.C. 2716a(a) | Oil Pollution Liability and Compensation | 59,114.
33 U.S.C. 3852(a)(1)(A) | Clean Hulls; Civil Enforcement | 54,124.
33 U.S.C. 3852(a)(1)(A) | Clean Hulls; related to false statements | 72,164.
33 U.S.C. 3852(c) | Clean Hulls; Recreational Vessels | 7,217.
42 U.S.C. 9609(a) | Hazardous Substances, Releases, Liability, Compensation (Class I) | 71,545.
42 U.S.C. 9609(b) | Hazardous Substances, Releases, Liability, Compensation (Class II) | 71,545.
42 U.S.C. 9609(b) | Hazardous Substances, Releases, Liability, Compensation (Class II subsequent offense) | 214,637.
42 U.S.C. 9609(c) | Hazardous Substances, Releases, Liability, Compensation (Judicial Assessment) | 71,545.
42 U.S.C. 9609(c) | Hazardous Substances, Releases, Liability, Compensation (Judicial Assessment subsequent offense) | 214,637.
46 U.S.C. 80509(a) | Safe Containers for International Cargo | 7,820.
46 U.S.C. 70305(c) | Suspension of Passenger Service | 78,210.
46 U.S.C. 2110(e) | Vessel Inspection or Examination Fees | 11,823.
46 U.S.C. 2115 | Alcohol and Dangerous Drug Testing | 9,624.
46 U.S.C. 2302(a) | Negligent Operations: Recreational Vessels | 8,705.
46 U.S.C. 2302(a) | Negligent Operations: Other Vessels | 43,527.
46 U.S.C. 2302(c)(1) | Operating a Vessel While Under the Influence of Alcohol or a Dangerous Drug | 9,624.
46 U.S.C. 2306(a)(4) | Vessel Reporting Requirements: Owner, Charterer, Managing Operator, or Agent | 14,988.
46 U.S.C. 2306(b)(2) | Vessel Reporting Requirements: Master | 2,998.
46 U.S.C. 3102(c)(1) | Immersion Suits | 14,988.
46 U.S.C. 3106(d) | Master Key Control System | 1,059.
46 U.S.C. 3302(i)(5) | Inspection Permit | 3,126.
46 U.S.C. 3318(a) | Vessel Inspection; General | 14,988.
46 U.S.C. 3318(g) | Vessel Inspection; Nautical School Vessel | 14,988.
46 U.S.C. 3318(h) | Vessel Inspection; Failure to Give Notice in accordance with (IAW) 3304(b) | 2,998.
46 U.S.C. 3318(i) | Vessel Inspection; Failure to Give Notice IAW 3309(c) | 2,998.
46 U.S.C. 3318(j)(1) | Vessel Inspection; Vessel ≥1600 Gross Tons | 29,980.
46 U.S.C. 3318(j)(1) | Vessel Inspection; Vessel <1600 Gross Tons (GT) | 5,996.
46 U.S.C. 3318(k) | Vessel Inspection; Failure to Comply with 3311(b) | 29,980.
46 U.S.C. 3318(l) | Vessel Inspection; Violation of 3318(b)-3318(f) | 14,988.
46 U.S.C. 3502(e) | List/count of Passengers | 312.
46 U.S.C. 3504(c) | Notification to Passengers | 31,252.
46 U.S.C. 3504(c) | Notification to Passengers; Sale of Tickets | 1,562.
46 U.S.C. 3506 | Copies of Laws on Passenger Vessels; Master | 625.
46 U.S.C. 3507(h)(1)(A) | Passenger Vessel Security and Safety; Daily Penalty & Maximum Penalty | 26,481 Daily/52,962 Maximum.
46 U.S.C. 3508(d) | Passenger Vessel Security and Safety; Crewmembers Crime Scene Preservation Training; Maximum Penalty | 52,962.
46 U.S.C. 3718(a)(1) | Liquid Bulk/Dangerous Cargo | 78,134.
46 U.S.C. 4106 | Uninspected Vessels | 13,132.
46 U.S.C. 4311(b)(1) | Recreational Vessels (maximum for related series of violations) | 413,388.
46 U.S.C. 4311(b)(1) | Recreational Vessels; Violation of 4307(a) | 8,267.
46 U.S.C. 4311(c) | Engine Cut-Off Switches; Violation of 4312(b), First Offense | 106.
46 U.S.C. 4311(c) | Engine Cut-Off Switches; Violation of 4312(b), Second Offense | 265.
46 U.S.C. 4311(c) | Engine Cut-Off Switches; Violation of 4312(b), Subsequent to Second Offense | 529.
46 U.S.C. 4311(d) | Recreational Vessels | 3,126.
46 U.S.C. 4507 | Uninspected Commercial Fishing Industry Vessels | 13,132.
46 U.S.C. 4703 | Abandonment of Barges | 2,224.
46 U.S.C. 5116(a) | Load Lines | 14,308.
46 U.S.C. 5116(b) | Load Lines; Violation of 5112(a) | 28,619.
46 U.S.C. 5116(c) | Load Lines; Violation of 5112(b) | 14,308.
46 U.S.C. 6103(a) | Reporting Marine Casualties | 49,848.
46 U.S.C. 6103(b) | Reporting Marine Casualties; Violation of 6104 | 13,132.
46 U.S.C. 8101(e) | Manning of Inspected Vessels; Failure to Report Deficiency in Vessel Complement | 2,365.
46 U.S.C. 8101(f) | Manning of Inspected Vessels | 23,647.
46 U.S.C. 8101(g) | Manning of Inspected Vessels; Employing or Serving in Capacity not Licensed by U.S. Coast Guard (USCG) | 23,647.
46 U.S.C. 8101(h) | Manning of Inspected Vessels; Freight Vessel <100 GT, Small Passenger Vessel, or Sailing School Vessel | 3,126.
46 U.S.C. 8102(a) | Watchmen on Passenger Vessels | 3,126.
46 U.S.C. 8103(f) | Citizenship Requirements | 1,562.
46 U.S.C. 8104(i) | Watches on Vessels; Violation of 8104(a) or (b) | 23,647.
46 U.S.C. 8104(j) | Watches on Vessels; Violation of 8104(c), (d), (e), or (h) | 23,647.
46 U.S.C. 8106(f) | Employing Qualified Available U.S. Citizens or Residents | 10,592 Daily/105,923 Maximum.
46 U.S.C. 8302(e) | Staff Department on Vessels | 312.
46 U.S.C. 8304(d) | Officer's Competency Certificates | 312.
46 U.S.C. 8502(e) | Coastwise Pilotage; Owner, Charterer, Managing Operator, Agent, Master or Individual in Charge | 23,647.
46 U.S.C. 8502(f) | Coastwise Pilotage; Individual | 23,647.
46 U.S.C. 8503 | Federal Pilots | 74,943.
46 U.S.C. 8701(d) | Merchant Mariners Documents | 1,562.
46 U.S.C. 8702(e) | Crew Requirements | 23,647.
46 U.S.C. 8906 | Small Vessel Manning | 49,848.
46 U.S.C. 9308(a) | Pilotage: Great Lakes; Owner, Charterer, Managing Operator, Agent, Master or Individual in Charge | 23,647.
46 U.S.C. 9308(b) | Pilotage: Great Lakes; Individual | 23,647.
46 U.S.C. 9308(c) | Pilotage: Great Lakes; Violation of 9303 | 23,647.
46 U.S.C. 10104(a)(2) | Requirement to Report Sexual Assault and Harassment; Mandatory Reporting by Responsible Entity of a Vessel | 52,962.
46 U.S.C. 10104(d)(2) | Requirement to Report Sexual Assault and Harassment; Company After Action Summary, violation of 10104(d)(1) | 26,481.
46 U.S.C. 10104(d)(2) | Requirement to Report Sexual Assault and Harassment; Company After Action Summary, Daily Noncompliance Penalty | 529.
46 U.S.C. 10104(d)(2) | Requirement to Report Sexual Assault and Harassment; Company After Action Summary, Civil Penalty Maximum | 52,962.
46 U.S.C. 10314(a)(2) | Pay Advances to Seamen | 1,562.
46 U.S.C. 10314(b) | Pay Advances to Seamen; Remuneration for Employment | 1,562.
46 U.S.C. 10315(c) | Allotment to Seamen | 1,562.
46 U.S.C. 10321 | Seamen Protection; General | 10,831.
46 U.S.C. 10505(a)(2) | Coastwise Voyages: Advances | 10,831.
46 U.S.C. 10505(b) | Coastwise Voyages: Advances; Remuneration for Employment | 10,831.
46 U.S.C. 10508(b) | Coastwise Voyages: Seamen Protection; General | 10,831.
46 U.S.C. 10711 | Effects of Deceased Seamen | 625.
46 U.S.C. 10902(a)(2) | Complaints of Unfitness | 1,562.
46 U.S.C. 10903(d) | Proceedings on Examination of Vessel | 312.
46 U.S.C. 10907(b) | Permission to Make Complaint | 1,562.
46 U.S.C. 11101(f) | Accommodations for Seamen | 1,562.
46 U.S.C. 11102(b) | Medicine Chests on Vessels | 1,562.
46 U.S.C. 11104(b) | Destitute Seamen | 312.
46 U.S.C. 11105(c) | Wages on Discharge | 1,562.
46 U.S.C. 11303(a) | Log Books; Master Failing to Maintain | 625.
46 U.S.C. 11303(b) | Log Books; Master Failing to Make Entry | 625.
46 U.S.C. 11303(c) | Log Books; Late Entry | 469.
46 U.S.C. 11506 | Carrying of Sheath Knives | 157.
46 U.S.C. 12151(a)(1) | Vessel Documentation | 20,468.
46 U.S.C. 12151(a)(2) | Documentation of Vessels—Related to activities involving mobile offshore drilling units | 34,116.
46 U.S.C. 12151(c) | Vessel Documentation; Fishery Endorsement | 156,422.
46 U.S.C. 12309(a) | Numbering of Undocumented Vessels—Willful violation | 15,628.
46 U.S.C. 12309(b) | Numbering of Undocumented Vessels | 3,126.
46 U.S.C. 12507(b) | Vessel Identification System | 26,262.
46 U.S.C. 14701 | Measurement of Vessels | 57,238.
46 U.S.C. 14702 | Measurement; False Statements | 57,238.
46 U.S.C. 31309 | Commercial Instruments and Maritime Liens | 26,262.
46 U.S.C. 31330(a)(2) | Commercial Instruments and Maritime Liens; Mortgagor | 26,262.
46 U.S.C. 31330(b)(2) | Commercial Instruments and Maritime Liens; Violation of 31329 | 65,653.
46 U.S.C. 55112(d) | Vessel Escort Operations and Towing Assistance | 10,592.
46 U.S.C. 70036(a) | Ports and Waterways Safety Regulations | 117,608.
46 U.S.C. 70041(d)(1)(B) | Vessel Navigation: Regattas or Marine Parades; Unlicensed Person in Charge | 11,823.
46 U.S.C. 70041(d)(1)(C) | Vessel Navigation: Regattas or Marine Parades; Owner Onboard Vessel | 11,823.
46 U.S.C. 70041(d)(1)(D) | Vessel Navigation: Regattas or Marine Parades; Other Persons | 5,911.
46 U.S.C. 70052(c) | Regulation of Vessels in Territorial Waters of the United States | 26,481.
46 U.S.C. 70119(a) | Port Security | 43,527.
46 U.S.C. 70119(b) | Port Security—Continuing Violations | 78,210.
46 U.S.C. 70506 | Maritime Drug Law Enforcement; Penalties | 7,217.
49 U.S.C. 5123(a)(1) | Hazardous Materials: Related to Vessels—Maximum Penalty | 102,348.
49 U.S.C. 5123(a)(2) | Hazardous Materials: Related to Vessels—Penalty from Fatalities, Serious Injuries/Illness or Substantial Damage to Property | 238,809.
49 U.S.C. 5123(a)(3) | Hazardous Materials: Related to Vessels—Training | 617.
¹ Enacted under the Tariff Act of 1930 exempt from inflation adjustments.

Title 49—Transportation

PART 1503—INVESTIGATIVE AND ENFORCEMENT PROCEDURES

3. The authority citation for part 1503 continues to read as follows:

Authority: 6 U.S.C. 1142; 18 U.S.C. 6002; 28 U.S.C. 2461 (note); 49 U.S.C. 114, 20109, 31105, 40113-40114, 40119, 44901-44907, 44939, 46101-46107, 46109-46110, 46301, 46305, 46311, 46313-46314; Pub. L. 110-53 (121 Stat. 266, Aug. 3, 2007) secs. 1408 (6 U.S.C. 1137), 1501 (6 U.S.C. 1151), 1517 (6 U.S.C. 1167), and 1534 (6 U.S.C. 1184).

4. In § 1503.401, revise paragraph (c) to read as follows:

§ 1503.401 Maximum penalty amounts.

* * * * *

(c) Certain aviation related violations. (1) For violations that occurred on or before November 2, 2015, $10,000 per violation, up to a total of $50,000 per civil penalty action, in the case of an individual or small business concern (“small business concern” as defined in section 3 of the Small Business Act (15 U.S.C. 632)). For violations that occurred between November 2, 2015, and May 16, 2024, $17,062 per violation, up to a total of $85,314 per civil penalty action, in the case of an individual (except an airman serving as an airman), or a small business concern. For violations that occurred on or before May 16, 2024, $10,000 per violation, up to a total of $50,000 per civil penalty action, in the case of an individual or small business concern (“small business concern” as defined in section 3 of the Small Business Act (15 U.S.C. 632)). For violations that occurred after May 16, 2024, $17,062 per violation, up to a total of $100,000 per civil penalty action, in the case of an individual (except an airman serving as an airman), or a small business concern.

(2) For violations that occurred on or before November 2, 2015, $10,000 per violation, up to a total of $400,000 per civil penalty action, in the case of any other person (except an airman serving as an airman) not operating an aircraft for the transportation of passengers or property for compensation. For violations that occurred between November 2, 2015, and May 16, 2024, $17,062 per violation, up to a total of $682,509 per civil penalty action, in the case of any other person (except an airman serving as an airman) not operating an aircraft for the transportation of passengers or property for compensation. For violations that occurred on or before May 16, 2024, $10,000 per violation, up to a total of $400,000 per civil penalty action, in the case of any other person (except an airman serving as an airman) not operating an aircraft for the transportation of passengers or property for compensation. For violations that occurred after May 16, 2024, $17,062 per violation, up to a total of $1,200,000 per civil penalty action, in the case of any other person (except an airman serving as an airman) not operating an aircraft for the transportation of passengers or property for compensation.

(3) For violations that occurred on or before November 2, 2015, $25,000 per violation, up to a total of $400,000 per civil penalty action, in the case of a person operating an aircraft for the transportation of passengers or property for compensation (except an individual serving as an airman). For violations that occurred between November 2, 2015, and May 16, 2024, $42,657 per violation, up to a total of $682,509 per civil penalty action, in the case of a person (except an individual serving as an airman) operating an aircraft for the transportation of passengers or property for compensation. For violations that occurred on or before May 16, 2024, $25,000 per violation, up to a total of $400,000 per civil penalty action, in the case of a person operating an aircraft for the transportation of passengers or property for compensation (except an individual serving as an airman). For violations that occurred after May 16, 2024, $42,657 per violation, up to a total of $1,200,000 per civil penalty action, in the case of a person (except an individual serving as an airman) operating an aircraft for the transportation of passengers or property for compensation.

Joseph Mazzara,
Acting General Counsel, U.S. Department of Homeland Security.

[FR Doc. 2025-23808 Filed 12-23-25; 8:45 am]

BILLING CODE 9110-04-P; 9110-05-P